DEPARTMENT OF ENERGY

Federal Energy Regulatory Commission

Notice of Staff Attendance at the Southwest Power Pool Regional Entity Trustee, Regional State Committee, Members' Committee and Board of Directors' Meetings

The Federal Energy Regulatory Commission (Commission) hereby gives notice that members of its staff may attend the meetings of the Southwest Power Pool, Inc. Regional Entity Trustee (RET), Regional State Committee (RSC), Members' Committee and Board of Directors as noted below. Their attendance is part of the Commission's ongoing outreach efforts.

All meetings will be held at SPP's Headquarters, 201 Worthen Drive, Little Rock, AR 72223-4936. The phone number is (501) 614-3200. All meetings are Central Time.

SPP RET

October 24, 2016 (8:00 a.m.-3:00 p.m.)

SPP RSC

October 24, 2016 (1:00 p.m.-5:00 p.m.)

SPP Members/Board of Directors

October 25, 2016 (8:00 a.m.-3:00 p.m.)

The discussions may address matters at issue in the following proceedings:

Docket No. ER11-1844, Midcontinent Independent System Operator, Inc.

Docket No. ER12-1179, Southwest Power Pool, Inc.

Docket No. ER14-2850, Southwest Power Pool, Inc.

Docket No. ER15-1775, Southwest Power Pool, Inc.

Docket No. ER15-1777, Southwest Power Pool, Inc.

Docket No. ER15-1976, Southwest Power Pool, Inc.

Docket No. ER15-2028, Southwest Power Pool, Inc.

Docket No. ER15-2115, Southwest Power Pool, Inc.

Docket No. ER15-2324, Southwest Power Pool, Inc.

Docket No. ER15-2347, Southwest Power Pool, Inc.

Docket No. ER15-2351, Southwest Power Pool, Inc.

Docket No. ER15-2356, Southwest Power Pool, Inc.

Docket No. EC16-53, South Central MCN, LLC

Docket No. EL16-108, Tilton Energy v. Midcontinent Independent System Operator, Inc.

Docket No. ER16-13, Southwest Power Pool, Inc.

Docket No. ER16-204, Southwest Power Pool, Inc.

Docket No. ER16-209, Southwest Power Pool, Inc.

Docket No. ER16-228, Southwest Power Pool, Inc.

Docket No. ER16-791, Southwest Power Pool, Inc.

Docket No. ER16-829, Southwest Power Pool, Inc.

Docket No. ER16-846, Southwest Power Pool, Inc.

Docket No. ER16-862, Southwest Power Pool, Inc.

Docket No. ER16-863, Southwest Power Pool, Inc.

Docket No. ER16-932, Southwest Power Pool, Inc.

Docket No. ER16-1086, Southwest Power Pool, Inc.

Docket No. ER16-1211, Midcontinent Independent System Operator, Inc.

Docket No. ER16-1286, Southwest Power Pool, Inc.

Docket No. ER16-1305, Southwest Power Pool, Inc.

Docket No. ER16-1351, Westar Energy, Inc.

Docket No. ER16-1314, Southwest Power Pool, Inc.

Docket No. ER16-1341, Southwest Power Pool, Inc.

Docket No. ER16-1546, Southwest Power Pool, Inc.

Docket No. ER16-1772, Public Service Company of Colorado

Docket No. ER16-1797, Midcontinent Independent System Operator, Inc.

Docket No. ER16-1799, Southwest Power Pool, Inc.

Docket No. ER16-1912, Southwest Power Pool, Inc.

Docket No. ER16-1945, Southwest Power Pool, Inc.

Docket No. ER16-2296, Southwest Power Pool, Inc.

Docket No. ER16-2330, Southwest Power Pool, Inc.

Docket No. ER16-2486, Southwest Power Pool, Inc.

Docket No. ER16-2488, Southwest Power Pool, Inc.

Docket No. ER16-2499, Southwest Power Pool, Inc.

Docket No. ER16-2513, Southwest Power Pool, Inc.

Docket No. ER16-2522, Southwest Power Pool, Inc.

Docket No. ER16-2523, Southwest Power Pool, Inc.

Docket No. ER16-2530, Southwest Power Pool, Inc.

Docket No. ER16-2557, Southwest Power Pool, Inc.

Docket No. ER16-2595, Southwest Power Pool, Inc.

Docket No. ER16-2596, Southwest Power Pool, Inc.

Docket No. ER16-2634, Southwest Power Pool, Inc.

Docket No. ER16-2655, Southwest Power Pool, Inc.

Docket No. ER16-2660, Southwest Power Pool, Inc.

Docket No. ER16-2677, Southwest Power Pool, Inc.

Docket No. ER16-2734, Southwest Power Pool, Inc.

Docket No. ER17-1, Southwest Power Pool, Inc.

Docket No. ER17-31, Southwest Power Pool, Inc.

These meetings are open to the public.

For more information, contact Patrick Clarey, Office of Energy Market Regulation, Federal Energy Regulatory Commission at (317) 249-5937 or patrick.clarey@ferc.gov.

Dated: October 17, 2016.
Kimberly D. Bose,
Secretary.

[FR Doc. 2016-25623 Filed 10-21-16; 8:45 am]

BILLING CODE 6717-01-P